DEPARTMENT OF ENERGY

Federal Energy Regulatory Commission

[Docket No. CP00-006-014]

Gulfstream Natural Gas System, LLC; Notice of Intent To Prepare an Environmental Assessment for the Proposed Gulfstream Natural Gas System, LLC'S Phase III Pipeline Project and Notice of Site Visit and Request for Comments on Environmental Issues

September 8, 2006.

The staff of the Federal Energy Regulatory Commission (FERC or Commission) will prepare an environmental assessment (EA) that will discuss the environmental impacts of the Gulfstream Natural Gas System, LLC's (Gulfstream) application for its Phase III Pipeline Project. Gulfstream proposes to amend its existing Phase III authorization under the FERC certificate granted October 8, 2003 by modifying the route and pipeline diameter. In this filing, Gulfstream proposes to construct, own and operate a 34.3-mile segment of 30-inch gas pipeline extending from its existing Station 712 in Martin County, Florida to a newly constructed Station 705 that would connect to the proposed Florida Power & Light Company (FPL) 2,220 megawatt (MW) gas turbine West County Energy Center (WCEC) in Palm Beach County, Florida. Gulfstream has executed firm service agreement with FPL to deliver 345,000 decatherms per day (Dth/d) of natural gas to the WCEC for a primary term of 23 years.

The FPL WCEC is a nonjurisdictional facility under FERC regulations. The facility is being licensed by the Florida Department of Environmental Protection Siting Office under the jurisdiction of the Florida Power Plant Siting Act.

This notice announces the opening of the scoping period that will be used to gather environmental input from the public and interested agencies on the project. Scoping comments are requested by October 9, 2006.

With this notice, the staff of the FERC is asking other Federal, State, local and tribal agencies with jurisdiction and/or special expertise with respect to environmental issues to cooperate with us in the preparation of the EA. These agencies may choose to participate once they have evaluated Gulfstream's proposal relative to their responsibilities. Agencies that would like to request cooperating status should follow the instructions for filing comments described in Appendix 1.

This notice is being sent to potentially affected landowners; Federal, State, and local government agencies; elected officials; environmental and public interest groups; Native American Tribes, other interested parties; local libraries and newspapers. State and local government representatives are asked to notify their constituents of this planned project and encourage them to comment on their areas of concern.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with State law.

A brochure prepared by the FERC entitled “An Interstate Natural Gas Facility On My Land? What Do I Need To Know?” is available for viewing on the FERC Web site (http://www.ferc.gov). This brochure addresses a number of typically asked questions, including the use of eminent domain and how to participate in the Commission's proceedings.

Background

The proposed 34.3-mile Phase III pipeline project is the third segment of Gulfstream's approximately 710-mile Phase I and II pipeline projects that extend from Alabama and Mississippi, across the Gulf of Mexico, through central Florida to Martin County in southeastern Florida. The Phase I project was placed into service on May 28, 2002 and Phase II was placed into service on February 1, 2005.

The original Phase III project was for a 32.14-mile, 24-inch pipeline to extend from Station 712 in Martin County, Florida, and terminate in Belle Glade. The new proposed 34.3 Phase III pipeline project follows the original route for 7.1 miles then turns in a southeasterly direction to just north of Twenty Mile Bend, where the proposed WCEC is to be located.

Summary of the Proposed Project

Martin County, FL

• Construct 10.15 miles of 30-inch-diameter gas pipeline commencing from Gulfstream's existing Station 712 (milepost 0.0 to milepost 10.15).

• Install a new 36-inch launcher assembly, including a 30-inch valve, at Gulfstream's existing Station 712.

Palm Beach County, Florida

• Construct 24.15 miles of 30-inch-diameter gas pipeline from milepost 10.15 to milepost 34.30.

• Install a new 30-inch valve setting at milepost 14.81.

• Install a new meter station, Station 705, which includes a receiver assembly, at the end of the proposed pipeline, milepost 34.30.

The location of the project facilities is shown in Appendix 2.¹

¹ The appendices referenced in this notice are not being printed in the Federal Register. Copies of all appendices, other than appendix 1 (maps), are available on the Commission's website at the “eLibrary” link or from the Commissions Public Reference Room, 888 First Street, NE., Washington, DC 20426, or call (202) 502-8371. For instructions on connecting to eLibrary refer to the last page of this notice. Copies of the appendices were sent to all those receiving this notice in the mail.

Land Requirements

Construction of the proposed pipeline facilities, including extra work areas, access roads, pipe/constructor yards, horizontal directional drill (HDD) drilling mud disposal areas would require the temporary disturbance of about 796 acres of land, the majority of which is located on sugarcane agricultural land and access roads. The three aboveground facilities, existing Station 712 at milepost 0.0, the new valve setting at milepost 14.81, and the new Station 705 at milepost 34.30, would require the temporary disturbance of 1.6 acres.

Following construction, permanent land acquisition of 343.1 acres would be maintained as part of the right-of-way and access roads for the maintenance of the gas pipeline. The aboveground facilities would require 1.2 permanent acres to be maintained during operation. The remaining acreage affected by construction would be restored and allowed to revert to its former land uses.

The EA Process

We ² are preparing this EA to comply with the National Environmental Policy Act (NEPA) which requires the Commission to take into account the environmental impacts that could result from an action whenever it considers the issuance of a Certificate of Public Convenience and Necessity. NEPA also requires us to discover and address concerns the public may have about proposals. This process is referred to as “scoping”. The main goal of the scoping process is to focus the analysis in the EA on the important environmental issues. By this Notice of Intent, the Commission staff requests public comments on the scope of the issues to address in the EA. All comments received are considered during the preparation of the EA.

² ”We”, “us”, and “our” refer to the environmental staff of the Office of Energy Projects (OEP).

Our independent analysis of the issues will be in the EA. Depending on the comments received during the scoping process, the EA may be published and mailed to Federal, State, and local agencies, public interest groups, interested individuals, affected landowners, newspapers, libraries, and the Commissions official service list for this proceeding. A comment period will be allotted for review if the EA is published. We will consider all comments on the EA before we make our recommendations to the Commission.

Currently Identified Environmental Issues

In the EA, we will discuss impacts that could occur as a result of the construction and operation of the project. We will also evaluate reasonable alternatives to the proposed project or portions of the project.

We have already identified several issues that we think deserve attention based on a preliminary review of the proposed facilities and the environmental information provided by Gulfstream. This preliminary list of issues may be changed based on your comments and our analysis.

Project-related impact on:

• Two commercial/industrial buildings within 50 feet of the construction workspace;

• Twelve active water supply wells within 150 feet of construction;

• Upland hardwood forest;

• Four federally-listed threatened and endangered species potentially in the project area;

• Two wetlands; and

• 224 water body crossings.

Site Visit

On September 25, 2006, the Office of Energy Projects (OEP) staff will conduct a site visit of Gulfstream's proposed Phase III Pipeline Construction Project. This site visit is being conducted to give landowners, agency personnel and any other interested parties the opportunity to become more familiar with the project and talk to FERC and Gulfstream staff directly. Examination will be by automobile and on foot. Representatives of Gulfstream will be accompanying the FERC staff.

Those planning to attend must provide their own transportation. Those interested in attending should meet at 10 a.m. (EST) in the parking lot of the public rest stop on State Hwy 76 at the Hwy 76/441 Intersection, on the east side of St. Lucie Canal Bridge.

For additional information, please contact the Commission's Office of External Affairs at 1-866-208-FERC.

Public Participation

You can make a difference by providing us with your specific comments or concerns about the project. By becoming a commentor, your concerns will be addressed in the EA and considered by the Commission. You should focus on the potential environmental effects of the proposal, alternatives to the proposal (including alternative locations and routes), and measures to avoid or lessen environmental impact. The more specific your comments, the more useful they will be. Please carefully follow these instructions to ensure that your comments are received in time and properly recorded:

• Send an original and two copies of your letter to: Magalie R. Salas, Secretary, Federal Energy Regulatory Commission, 888 First St., NE., Room 1A, Washington, DC 20426.

• Label one copy of the comments for the attention of Gas Branch 3.

• Reference Docket Number CP00-006-014.

• Mail your comments so that they will be received in Washington, DC on or before October 9, 2006.

Please note that the Commission encourages electronic filing of comments. See 18 Code of Federal Regulations (CFR) 385.2001(a)(1)(iii) and the instructions on the Commission's Web site at http://www.ferc.gov under the “e-Filing” link and the link to the User's Guide. Prepare your submission in the same manner as you would if filing on paper and save it to a file on your hard drive. Before you can file comments you will need to create an account by clicking on “Login to File” and then “New User Account.” You will be asked to select the type of filing you are making. This filing is considered a “Comment on Filing.”

The determination of whether to distribute the EA for public comment will be based on the response to this notice. If you are interested in receiving it, please return the Information Requested (Appendix 3). An effort is being made to send this notice to all individuals affected by the proposed project. This includes all landowners who are potential right-of-way grantors, whose property may be used temporarily for project purposes, or who own homes within distances defined in the Commission's regulations of certain aboveground facilities.

Becoming an Intervenor

In addition to involvement in the EA scoping process, you may want to become an official party to the proceeding known as an “intervenor”. To become an intervenor you must file a motion to intervene according to Rule 214 of the Commission's Rules of Practice and Procedure (18 CFR 385.214). Intervenors have the right to seek rehearing of the Commission's decision. Motions to Intervene should be electrically submitted using the Commission's eFiling system at http://www.ferc.gov. Persons without Internet access should send an original and 14 copies of their motion to the Secretary of the Commission at the address indicated previously. Persons filing Motions to Intervene on or before the comment deadline indicated above must send a copy of the motion to the Applicant. All filings, including late interventions, submitted after the comment deadline must be served on the Applicant and all other intervenors identified on the Commission's service list for this proceeding. Persons on the service list with e-mail addresses may be served electronically; others must be served a hard copy of the filing.

Affected landowners and parties with environmental concerns may be granted intervenor status upon showing good cause by stating that they have a clear and direct interest in this proceeding which would not be adequately represented by any other parties. You do not need intervenor status to have your environmental comments considered.

Environmental Mailing List

If you wish to remain on our environmental mailing list, please return the Information Request Form included in Appendix 3. If you do not return this form, you will be removed from our mailing list.

Additional Information

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at FERCOnlineSupport@ferc.gov or toll free at 1-866-208-3676, or for TYY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Magalie R. Salas,
Secretary.

[FR Doc. E6-15386 Filed 9-15-06; 8:45 am]

BILLING CODE 6717-01-P